DEPARTMENT OF LABOR

Employment and Training Administration

[TA-W-40,056]

Joint Venture Tool and Mold, LLC Saegertown, Pennsylvania; Notice of Termination of Investigation

Pursuant to section 221 of the Trade Act of 1974, an investigation was initiated on September 17, 2001, in response to a company petition which was filed by the company on behalf of workers at Joint Venture Tool and Mold, Inc., Saegertown, Pennsylvania.

The petitioner has requested that the petition be withdrawn. Consequently, further investigation in this case would serve no purpose, and the investigation has been terminated.

Signed in Washington, DC this 26th day of November, 2001.
Linda G. Poole,
Certifying Officer, Division of Trade Adjustment Assistance.

[FR Doc. 01-30073 Filed 12-4-01; 8:45 am]

BILLING CODE 4510-30-M